DEPARTMENT OF ENERGY

Federal Energy Regulatory Commission

Combined Notice of Filings #1

Take notice that the Commission received the following electric corporate filings:

Docket Numbers: EC19-21-000.

Applicants: Meadow Lake Wind Farm VI LLC, Prairie Queen Wind Farm LLC.

Description: Application for Authorization Under Section 203 of the Federal Power Act, et al. of Meadow Lake Wind Farm VI LLC, et. al.

Filed Date: 11/2/18.

Accession Number: 20181102-5282.

Comments Due: 5 p.m. ET 11/23/18.

Take notice that the Commission received the following electric rate filings:

Docket Numbers: ER10-2130-019.

Applicants: Forward Energy LLC.

Description: Supplement to June 15, 2018 Triennial Report and Change in Fact Notice of Forward Energy LLC.

Filed Date: 11/2/18.

Accession Number: 20181102-5234.

Comments Due: 5 p.m. ET 11/23/18.

Docket Numbers: ER10-2136-014.

Applicants: Invenergy Cannon Falls LLC.

Description: Supplement to June 15, 2018 Triennial Report and Change in Fact Notice of Invenergy Cannon Falls LLC.

Filed Date: 11/2/18.

Accession Number: 20181102-5233.

Comments Due: 5 p.m. ET 11/23/18.

Docket Numbers: ER11-4044-020.

Applicants: Gratiot County Wind LLC.

Description: Supplement to June 15, 2018 Triennial Report and Change in Fact Notice of Gratiot County Wind LLC.

Filed Date: 11/2/18.

Accession Number: 20181102-5232.

Comments Due: 5 p.m. ET 11/23/18.

Docket Numbers: ER11-4046-019.

Applicants: Gratiot County Wind II LLC.

Description: Supplement to June 15, 2018 Triennial Report and Change in Fact Notice of Gratiot County Wind II LLC.

Filed Date: 11/2/18.

Accession Number: 20181102-5265.

Comments Due: 5 p.m. ET 11/23/18.

Docket Numbers: ER12-164-018.

Applicants: Bishop Hill Energy III LLC.

Description: Supplement, et al. to June 15, 2018 Triennial Report and Change in Fact Notice of Bishop Hill Energy III LLC.

Filed Date: 11/2/18.

Accession Number: 20181102-5263.

Comments Due: 5 p.m. ET 11/23/18.

Docket Numbers: ER16-1720-007.

Applicants: Invenergy Energy Management LLC.

Description: Supplement to June 15, 2018 Triennial Report and Change in Fact Notice of Invenergy Energy Management LLC.

Filed Date: 11/2/18.

Accession Number: 20181102-5231.

Comments Due: 5 p.m. ET 11/23/18.

Docket Numbers: ER18-171-002.

Applicants: Southwest Power Pool, Inc.

Description: Tariff Amendment: 2236R9 Golden Spread Electric Cooperative, Inc. NITSA NOA to be effective 10/1/2017.

Filed Date: 11/2/18.

Accession Number: 20181102-5193.

Comments Due: 5 p.m. ET 11/23/18.

Docket Numbers: ER18-1952-003.

Applicants: Gulf Power Company.

Description: Tariff Amendment: Gulf Power Supplemental Response and Amendment to be effective 12/31/9998.

Filed Date: 11/2/18.

Accession Number: 20181102-5183.

Comments Due: 5 p.m. ET 11/19/18.

Docket Numbers: ER19-276-000.

Applicants: PJM Interconnection, L.L.C.

Description: § 205(d) Rate Filing: Revisions to Sch. 12-Appx A: Oct 2018 RTEP, 30-day Comments due Dec 2, 2018 to be effective 1/31/2019.

Filed Date: 11/2/18.

Accession Number: 20181102-5082.

Comments Due: 5 p.m. ET 12/3/18.

Docket Numbers: ER19-281-001.

Applicants: PacifiCorp.

Description: Tariff Amendment: Amend Filing RS 739 BPA Cnstr Agmt Hilltop Happy Camp to be effective 1/2/2019.

Filed Date: 11/2/18.

Accession Number: 20181102-5223.

Comments Due: 5 p.m. ET 11/23/18.

Docket Numbers: ER19-282-000.

Applicants: Florida Power & Light Company.

Description: § 205(d) Rate Filing: FPL and LCEC Amendments to Rate Schedule FERC No. 317 to be effective 4/1/2018.

Filed Date: 11/2/18.

Accession Number: 20181102-5163.

Comments Due: 5 p.m. ET 11/23/18.

Docket Numbers: ER19-285-000.

Applicants: PJM Interconnection, L.L.C.

Description: § 205(d) Rate Filing: Amendment to WMPA SA No. 4768; Queue No. AC1-117 to be effective 8/4/2017.

Filed Date: 11/2/18.

Accession Number: 20181102-5178.

Comments Due: 5 p.m. ET 11/23/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 5, 2018.
Nathaniel J. Davis, Sr.,
Deputy Secretary.

[FR Doc. 2018-24538 Filed 11-8-18; 8:45 am]

BILLING CODE 6717-01-P